DEPARTMENT OF THE INTERIOR

National Park Service

[NPS-PWR-PWRO-25120; PPPWOLYMS1-PPMPSPD1Z.YM0000]

Final Environmental Impact Statement/Mountain Goat Management Plan, Olympic National Park, Clallam, Grays Harbor, Jefferson and Mason County, Washington

AGENCY: National Park Service, Interior.

ACTION: Notice of Availability.

SUMMARY: The National Park Service (NPS) announces the availability of the Final Environmental Impact Statement (EIS) for the management of exotic (non-native) mountain goats at Olympic National Park (park). The Final EIS evaluates four alternatives for managing exotic mountain goats in the park, including options such as translocation to native mountain goat habitat and lethal removal. The USDA Forest Service (Forest Service) and the Washington Department of Fish and Wildlife (WDFW) are cooperating agencies on this project.

DATES: The NPS will execute a Record of Decision (ROD) no sooner than 30 days from the date of publication by the U.S. Environmental Protection Agency of the notice of filing of the Final EIS in the Federal Register.

ADDRESSES: An electronic copy of the Final EIS/plan will be available for public review at http://parkplanning.nps.gov/olymgoat. A limited number of hard copies will be available in the office of the Superintendent, Olympic National Park, 600 East Park Ave., Port Angeles, WA 98362.

FOR FURTHER INFORMATION CONTACT: Ms. Christina Miller, Planning and Compliance Lead, Olympic National Park, 600 East Park Ave., Port Angeles, WA 98362; (360) 565-3004.

SUPPLEMENTARY INFORMATION: The purpose of the Final EIS/plan is to allow the NPS to reduce or eliminate impacts to park resources from exotic mountain goats, while reducing potential public safety issues associated with the presence of mountain goats in the Park. Management direction is needed to address resource management and human safety issues resulting from the presence of exotic mountain goats in the Park. This Final EIS/plan evaluates the impacts of the no-action alternative (Alternative A) and three action alternatives (Alternatives B, C, and D). Alternative D is the agency's preferred alternative and the environmentally preferable alternative. Alternative A would involve no new action, but would include full implementation of the 2011 Mountain Goat Action Plan, including management of individual mountain goats in visitor use areas according to a continuum of mountain goat-human interactions. Specific management actions could range from hazing to lethal removal of hazardous mountain goats. Alternative B would focus exclusively on the capture of mountain goats within the park and on adjacent Olympic National Forest lands followed by their transfer to WDFW. WDFW would subsequently translocate the goats to other areas chosen at its discretion, including portions of the Cascade Mountain Range where mountain goats are native and supplementation of the existing population would further mountain goat conservation efforts. Alternative C would use lethal removal to eliminate or significantly reduce mountain goats in the park and adjacent lands in the Olympic National Forest. Alternative D would utilize a combination of capture and translocation and lethal removal tools to eliminate or significantly reduce mountain goats in the park.

The Final EIS/plan responds to, and incorporates where appropriate, agency and public comments received on the Draft EIS/plan, which was available for public review from July 21, 2017 through October 10, 2017. The NPS held four public meetings between August 11 and August 14, 2017 to gather input on the Draft EIS/plan. During the public comment period, the NPS received 2,311 pieces of correspondence. In response to public comments, the NPS made several revisions to the text of the Draft EIS/plan. While most revisions were editorial in nature, the NPS did make some substantive changes regarding the timing of mountain goat removal and translocation operations under alternatives C and D. NPS and cooperating agency responses to public comments are provided as an appendix in the Final EIS/plan available at http://parkplanning.nps.gov/olymgoat.

Authority: 42 U.S.C. 4321 et seq.

Dated: April 3, 2018.
Martha J. Lee,
Acting Regional Director, Pacific West Region.

[FR Doc. 2018-09449 Filed 5-3-18; 8:45 am]

BILLING CODE 4312-52-P